DEPARTMENT OF HEALTH AND HUMAN SERVICES

Centers for Medicare & Medicaid Services

[Document Identifier: CMS-10086]

Emergency Clearance: Notice of Funding Availability and Public Information Collection Requirements Submitted to the Office of Management and Budget (OMB)

AGENCY: Centers for Medicare & Medicaid Services (CMS).

SUMMARY: Part I of this notice serves as an announcement for emergency clearance of public information collection requirements that have been submitted to the Office of Management and Budget (OMB). The Congress recognized that States face formidable challenges in their efforts to fulfill their legal responsibilities under the Americans with Disabilities Act. The Congress appropriated funds for these “Real Choice Systems Change Grants” specifically to improve community-integrated services. We cannot reasonably comply with the normal clearance procedures because of the potential for public harm: the funds set aside for the grants would revert to the general fund and States, together with their disability and aging communities that have already undertaken extensive planning efforts for these grant opportunities, would be significantly harmed.

Part II of this notice serves as an announcement for solicitation of applications for the Real Choice Systems Change Grants for Community Living. Specifically, this notice announces the availability of approximately $35 million in grant funding. These grants are a part of the President's New Freedom Initiative, which calls for the removal of barriers to community living for people with disabilities. CMS is the designated HHS agency with administrative responsibility for this program. These grants are designed to assist states develop enduring infrastructures that support people of any age who have a disability or long-term illness to live and participate in their communities. Applicants include states, state instrumentalities, and other eligible entities as further described in the notice. Also included in this notice is information about the application process.

A second Federal Register notice is being published regarding the remaining $5 million of the Real Choice Systems Change Grants for Community Living. In the second notice, the Centers for Medicare & Medicaid Services, in collaboration with the Administration on Aging, will announce a competition for grants to be awarded as cooperative agreements for projects that support the development of state Aging and Disability Resource Center (Resource Center) programs. Resource Center programs will provide person-centered “one-stop shop” entry points into the long-term care system at the community level. Resource Centers will serve individuals who need long-term care, their family caregivers, and those planning for future long-term care needs. They will also serve as a resource for health and long-term care professionals and others who provide services to the elderly and to people with disabilities.

DATES: Deadline for Submission of Grant Applications: To be considered under the Fiscal Year 2003 funding cycle, grant applications must be submitted by July 29, 2003. All application materials must be submitted by the due date. No materials will be accepted after the deadline. The types of grants and maximum grant awards are summarized in the Real Choice Systems Change Grants for Community Living—FY2003 table.

Applicants' Teleconference (aka: Bidders' Teleconference): Information regarding the time and call-in number will be available on the CMS Web site at: http://www.cms.hhs.gov/newfreedom/default.asp. We anticipate that the teleconference will be scheduled early in the month of June. Additionally, CMS staff will be available for questions and answers on an ongoing basis.

Application Materials: An application kit containing all instructions and forms needed to apply for the Real Choice Systems Change Grants for Community Living can be downloaded from the New Freedom Initiative Web site at: http://www.cms.hhs.gov/newfreedom/default.asp. If an organization does not have access to the Internet, an application kit may be obtained by writing or calling: Judith Norris, Centers for Medicare & Medicaid Services, OICS, AGG, Grants Management Staff, Mail Stop C2-21-15, 7500 Security Boulevard, Baltimore, Maryland 21244-1850; E-mail: Jnorris1@cms.hhs.gov; 410-786-5130.

Submission of Application: Applications are due by the closing date listed under Deadline for Submission of Grant Applications in the DATE section of this notice. Applications must be submitted both electronically and in paper form. Applications mailed through the U. S. Postal Services or a commercial delivery service will be considered “on time” if received by close of business on the closing date, or postmarked (first class mail) by the date specified and received within five business days. If express, certified, or registered mail is used, the applicant should obtain a legible dated mailing receipt from the U. S. Postal Service. Private metered postmarks are not acceptable as proof of timely mailings. Applications that do not meet the above criteria will be considered late applications.

Submissions by facsimile (fax) transmission will not be accepted. An original proposal should be submitted with two copies to: Marian Webb, Centers for Medicare & Medicaid Services, OICS, AGG, Grants Management Staff, Mail Stop: C2-21-15, 7500 Security Boulevard, Baltimore, Maryland 21244-1850. Additional application instructions are included in the solicitation.

Applicants will not receive official notification that their application has been received on time by CMS. Those submitting late applications will be notified that their applications were not considered in the competition and will be returned without review.

FOR FURTHER INFORMATION CONTACT: Questions about CMS's announcement of funding availability or application package can be directed to: Mary Guy, Centers for Medicare & Medicaid Services, Center for Medicaid and State Operations, Disabled and Elderly Health Programs Group, Mail Stop: S2-14-26, 7500 Security Boulevard, Baltimore, MD 21244-1850, (410) 786-2772, E-mail: RealChoiceFY03@cms.hhs.gov.

SUPPLEMENTARY INFORMATION:

Part I—Paperwork Reduction Act Notice

In compliance with the requirement of section 3506(c)(2)(A) of the Paperwork Reduction Act of 1995, the Centers for Medicare & Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

CMS is requesting an emergency review of the information collection referenced below. In compliance with the requirement of section 3506(c)(2)(A) of the Paperwork Reduction Act of 1995, we have submitted to the Office of Management and Budget (OMB) the following requirements for emergency review. CMS is requesting an emergency review because the collection of this information is needed before the expiration of the normal time limits under OMB's regulations at 5 CFR Part 1320. This is necessary to ensure compliance with the Trade Act of 2002. CMS cannot reasonably comply with the normal clearance procedures because of an unanticipated event and potential public harm.

CMS seeks emergency approval because of the short timeframe that is available to issue the solicitation, receive and applications, and prepare and release award packages. Because of the increased number of grant opportunities, we are expecting an even larger volume of grant applications than was received for this program in FY 2001.

CMS is requesting OMB review and approval of this collection by July 21, 2003 with a 180-day approval period. Written comments and recommendations will be accepted from the public if received by the individuals designated below by July 16, 2003. During this 180-day period, we will publish a separate Federal Register notice announcing the initiation of an extensive 60-day agency review and public comment period on these requirements. We will submit the requirements for OMB review and an extension of this emergency approval.

Type of Information Request: New collection; Type of Information Collection: Medicaid Program: Real Choice Systems Change Grants for Community Living; CMS Form Number: CMS-10086 (OMB# 0938-NEW); Use: Executive Order 13217, “Community-Based Alternatives for Individuals with Disabilities” called upon the federal government to assist states and localities to swiftly implement the decision of the United States Supreme Court in Olmstead v. L.C., stating: “The United States is committed to community-based alternatives for individuals with disabilities and recognizes that such services advance the best interests of the United States.” State agencies and community groups will be applying for these grants; Frequency: On occasion; Affected Public: State, local, or tribal government; not-for-profit institutions; Number of Respondents: 150 Total Annual Responses:150; Total Annual Burden Hours: 1500. CMS has submitted a copy of this notice to OMB for its review of these information collections. A notice will be published in the Federal Register when approval is obtained.

To obtain copies of the supporting statement and any related forms for the proposed paperwork collections referenced above, access CMS's Web site address at http://cms.hhs.gov/regulations/pra/default.asp or E-mail your request, including your address, phone number, OMB number, and CMS document identifier, to Paperwork@cms.hhs.gov, or call the Reports Clearance Office on (410) 786-1326.

Interested persons are invited to send comments regarding the burden or any other aspect of these collections of information requirements. However, as noted above, in order to be considered in the OMB approval process, comments on these information collection and record keeping requirements must be mailed and/or faxed to the designees referenced below, by July 16, 2003.

Part II—Announcement for Solicitation of Applications for the Real Choice Systems Change Grants for Community Living

A. Background

1. People of all ages who have a disability or long-term illness generally express the same desire to live in the community as do most other Americans. They express a desire to live in their own homes, make decisions about their own daily activities, work, learn, and maintain important social relationships. They express a desire to contribute and participate in their communities and family life. In 1990, the Congress enacted the Americans with Disabilities Act (ADA) (Pub. L. 101-336). The ADA recognized that “society has tended to isolate and segregate individuals with disabilities, and, despite some improvements, such forms of discrimination against individuals with disabilities continue to be a serious and pervasive social problem” (42 U.S.C. 12101(a)(2)). The ADA gave legal expression to the desires and rights of Americans to lead lives as valued members of their own communities despite the presence of disability. Over the past few years, a consensus for assertive new steps to improve the capacity of long-term support systems to respond to the desires of the citizenry has been building. Federal, state, and local governments have begun to take actions to renew and reaffirm a commitment to improving the systems that will support people of all ages with disabilities or long-term illnesses who wish to live in their communities. The President invigorated these efforts in 2001 through his New Freedom Initiative and Executive Order 13217. The Executive Order directs Federal agencies to provide assistance to States and to identify federal policy barriers that might be removed in order to achieve fulfillment of ADA.

2. FY 2001 Real Choice Systems Change Grants for Community Living: On May 22, 2001, CMS published a Notice of Funding Availability for the Systems Change Grants for Community Living in the Federal Register (66 FR 28183). Under that notice, CMS invited proposals from states and others, in partnership with their disability and aging communities, to design and implement effective and enduring improvements in community long-term support systems. The response of states and other eligible entities to these grant opportunities was extraordinary. The response revealed a strong interest by states and others in improving community-based systems and for federal technical and resource assistance. In July 2001, CMS received 161 applications for these Systems Change grants from 51 States and Territories (48 States, the District of Columbia, and 2 Territories) requesting funding totaling approximately $240 million. In September 2001, CMS awarded the first Real Choice Systems Change Grants, totaling approximately $70 million, to 37 States and 1 territory. The awards consisted of: 25 Real Choice Systems Change grants; ten Community-Integrated Personal Assistance Services and Supports grants; 12 Nursing Facility Transitions, State Program Grants; and five Nursing Facility Transitions, Independent Living Partnership grants. CMS also awarded two grants (one to each grantee) for technical assistance to Rutgers and ILRU, forming the Community Living Exchange Collaborative: A National Technical Assistance Program.

3. FY 2002 Real Choice Systems Change Grants for Community Living: In FY 2002, the Congress appropriated an additional $55 million in Systems Change grant funds specifically to improve community-integrated services (Departments of Labor, Health and Human Services, and Education, and Related Agencies Appropriations Act, 2002 Pub. L. 107-116). Due to the extraordinary response CMS received in FY 2001 to the Systems Change Grants for Community Living solicitation, no new applications were accepted for FY 2002. Instead, CMS continued to process and award applications submitted in 2001, beginning with the highest-ranked applications that were not funded in FY 2001. Notice of the process for awarding the FY 2002 grants was published in the Federal Register on April 26, 2002 (66 FR 20791). The FY 2002 awards consisted of: 25 new Real Choice Systems Change grants; 8 new Community-Integrated Personal Assistance Services and Supports grants; 11 new Nursing Facility Transitions, State Program grants; and 5 new Nursing Facility Transitions, Independent Living Partnership grants. CMS also made supplemental awards to the two the Grantees for the Community Living Exchange Collaborative: A National Technical Assistance Program and five supplemental awards to five states that received Real Choice Systems Change grants in FY 2001. The five supplemental Real Choice awards ensured that these state grantees were not disadvantaged in award amounts received compared to states that received FY 2002 awards. The list of “Qualified Applicants” for purposes of FY 2002 grant awards as published was correct with the following exception: the State of California declined its “preliminary” award of a Nursing Facility Transitions, State Program Grant (NFT-SP) and as a result, the State of Louisiana, the next highest-ranked applicant in this category, was awarded an NFT-SP grant.

B. Overview and General Requirements for All FY 2003 Real Choice System Change Grants for Community Living

The following distinct competitive grant solicitations comprise the Real Choice Systems Change Grants for Community Living:

• Respite for Adults: The purpose of the Respite for Adults grants is to enable states to conduct studies assessing the feasibility of developing respite projects for caregivers of adults through Medicaid or other funding streams. States may examine the feasibility of providing respite for adults, as if it were a Medicaid service, to a limited target group (i.e., the elderly; individuals with mental illness, developmental disability, physical disability, etc.) Such projects will be expected to build in elements that are responsive to individual needs and offer the opportunity for consumer direction. Approximately $525,000 to $1.4 million is available to assist states in this effort.

• Respite for Children: The purpose of the Respite for Children grants is to enable States to conduct feasibility studies and explore the development for Medicaid respite projects specifically targeted for caregivers of children. States may examine the feasibility of providing respite for children, as if it were a Medicaid service, to a limited target group (i.e., children with a physical disability, mental illness, developmental disability, etc.) Such projects will be expected to build in elements that are responsive to individual needs and offer the opportunity for consumer direction. Approximately $525,000 to $1.4 million is available to assist states in this effort.

• Community-Based Treatment Alternatives for Children (C-TAC): The purpose of the C-TAC grants is to assist states in developing a comprehensive, community-based mental health service delivery system, through Medicaid, for children with serious emotional disturbances who would otherwise require care in a psychiatric residential treatment facility (PRTF). Currently, Medicaid provides inpatient psychiatric services for children under age 21 in hospitals, and extends these Medicaid benefits to children in PRTFs. However, PRTFs do not meet the CMS definition of “hospital” so they do not qualify as institutions against which states may measure § 1915(c) waiver costs. Over the last decade, PRTFs have become the primary providers for children with serious emotional disturbances requiring an institutional level of care however, states have been unable to use § 1915(c) waiver authority to provide Medicaid-funded home and community-based alternatives to care, which would keep the children in their homes and with their families. The funds available through this solicitation will assist states in assessing community-based alternatives to residential treatment or institutionalization. Approximately $525,000 to $1.4 million is available to assist states in this effort.

• Quality Assurance and Quality Improvement in Home and Community-Based Services (QA/QI in HCBS): The purpose of QA/QI in HCBS grants is to assist states to: (a) fulfill their commitment to assuring the health and welfare of individuals who participate in the state's home and community-based waivers under § 1915(c) of the Social Security Act, (b) develop effective and systematic methods to meet statutory and CMS requirements by the use of ongoing quality improvement strategies, and (c) develop improved methods that enlist the individual and community members in active roles in the quality assurance and quality improvement systems. Approximately $4,320,000 to $15 million is available to assist states in this effort.

• Independence Plus Initiative: The purpose of Independence Plus Initiative grants is to assist states in meeting the federal expectations established by CMS for the approval of self-directed program waivers and demonstration projects within the Independence Plus framework. These expectations include: Person-Centered Planning, Individual Budgeting, Self-Directed Supports (including Financial Management Services and Supports Brokerage), and Quality Assurance and Improvement Systems (including the participant protections of emergency back-up and viable incident management systems). Approximately $2,880,000 to $8 million is available to assist states in this effort.

• Money Follows the Person Rebalancing Initiative: The purpose of this initiative is to enable states to develop and implement strategies to reform the financing and service designs of state long-term support systems so that (a) a coherent package of State Plan and HCBS waiver services is available in a manner that permits funding to “follow the person” to the most appropriate and preferred setting, (b) financing arrangements that enable transition services for individuals who transition between institution and community settings. Approximately $5.5 million to $15 million is available to assist states in this effort.

• Community-Integrated Personal Assistance Services and Supports (C-PASS): Personal assistance is the most frequently used service that enables people with a disability or long-term illness to live in the community. Many states have taken a leadership role in designing systems that not only offer the basic personal assistance service, but also make that service available in a manner that affords consumers maximum control over the selection of individuals working on their behalf and the manner in which services are provided. These grant funds will be used by states to improve personal assistance services that are consumer-directed or offer maximum individual control. Approximately $1.6 million to $6 million is available to assist states that did not receive a C-PASS grant in either FY 2001 or FY 2002. FY 2001 C-PASS grantees are: Alaska, Arkansas, Guam, Michigan, Minnesota, Montana, Nevada, New Hampshire, Oklahoma, and Rhode Island. FY 2002 C-PASS grantees are: Colorado, District of Columbia, Hawaii, Indiana, Kansas, North Carolina, Tennessee, and West Virginia. Only states that did not receive a C-PASS grant in either FY 2001 or FY 2002 are eligible to apply for FY 2003.

• National State-to-State Technical Assistance Program for Community Living: This national technical assistance grant will support all of the FY 2003 Real Choice Systems Change Grants for Community Living efforts. CMS expects that the grantee will engage in activities that include: (a) Providing technical assistance to the FY 2003 Real Choice Systems Change grantees, the Technical Assistance for Consumer Task Forces grantee, and others; (b) providing on-site state-to-state technical assistance; (c) developing technical assistance materials; (d) developing or providing expertise for states and children and adults of any age with a disability or long-term illness; (e) working with individual states, national associations of state agencies, consumer organizations, the National Governors Association, the National Conference of State Legislatures, and others to collect, refine, and disseminate information that aids in the effective administration of programs for community living; and (f) developing, gathering, analyzing, and disseminating relevant practical information. Approximately $4.4 million is available for this grant.

• Technical Assistance for Consumer Task Forces: The purpose of this grant, as emphasized by Congress, is to “provide expanded technical assistance to the consumer task forces involved with the Real Choice Systems Change Grant program by contracting with a consortium of consumer-controlled organizations for people with disabilities.” Ensuring technical assistance by and for consumers on consumer task forces is one way to support the involvement of crucial stakeholders in the Real Choice Systems Change Grants for Community Living. Under this grant opportunity, CMS is accepting proposals from consortia of consumer-controlled organizations to provide technical assistance to the consumer task forces of the Grantees of Real Choice Systems Change Grants for Community Living Project funds may be used to organize and provide technical assistance to the consumer task forces that are involved with planning and implementation of the grants funded under the Real Choice Systems Change Grants for Community Living. Project funds may be used, for example, to hire staff for this project, to hire contractor(s) to contribute to the project, to hold meetings, for travel, for publications, for training and development of new programs, and to facilitate the progress of the consumer task forces. Approximately $550,000 is available for this grant.

• Family-to-Family Health Care Information and Education Centers: The purpose of these grants is to support the development of Family-to-Family Health Care Information and Education Centers (Information and Education Centers). Organizations will use these awards to establish statewide family-run centers that will (a) provide education and training opportunities for families with children with special health care needs, (b) develop and disseminate needed health care and HCBS information to families and providers, (c) collaborate with other Family-to-Family Health Care Information and Education Centers to benefit children with special health care needs, and (d) promote the philosophy of individual and family-directed supports CMS is collaborating with the Health Resources and Services Administration (HRSA) in this initiative. In 2001, the HRSA, Maternal and Child Health Bureau, initiated a program to develop the capacities of families with children with special health care needs and assist states meet their Healthy People 2010 objectives for community-based services for children with special health care needs. The HRSA program is also entitled Family-to-Family Health Care Information and Education Centers. (For information on the Healthy People 2010 initiative, please visit the Web site at: http://www.healthypeople.gov.) CMS recognizes the wealth of knowledge that exists among parents who have years of experience with the long-term care system, and the potential for this knowledge to be of assistance to both other families and service providers. The goals of this initiative are to increase both access to and choice in HCBS for families who have children with special health care needs. Applicants must demonstrate that the project (a) establishes new capacity, (b) does not duplicate existing work or supplant existing funding, and (c) devotes all funding under the new proposal to endeavors that advance the goal and vision of the Information and Education Centers grant program. Approximately $875,000 to $1.1 million is available for these efforts.

1. Amount and Number of Grants to be Awarded: The Real Choice Systems Change Grants for Community Living—FY 2003 table indicates the expected range of awards for each type of grant. CMS reserves the right to offer a funding level that differs from the requested amount, and to negotiate with the applicant with regard to the appropriate scope and intensity of effort that would be appropriate and commensurate with the final funding level.

2. Purpose: Several grant opportunities comprise the FY 2003 Real Choice Systems Change Grants for Community Living solicitation. They are described in this notice and more fully in the solicitation. Some of these grants are intended to assist states in assessing and exploring how to best address problems in specific topic areas that CMS has learned are of great concern through the New Freedom Initiative, National Listening Session, and Open Door Forums. Other grants are intended as catalysts for the development of specific home and community-based waivers (i.e., Independence Plus) or for the development of systems of quality assurance and quality-improvement within existing home and community-based waivers. The new C-PASS grants will enable states that have not previously received a C-PASS grant to improve personal assistance services and supports that are consumer-directed or offer maximum individual control.

3. Who is Eligible to Apply: States may apply for any grant except the Technical Assistance for Consumer Task Forces and the Family-to-Family Health Care Information and Education Centers grants. By “State” we refer to the definition provided under 45 CFR 74.2 as “any of the several States of the United States, the District of Columbia, the Commonwealth of Puerto Rico, any territory or possession of the United States, or any agency or instrumentality of a State exclusive of local governments.” By “territory or possession,” we mean Guam, the U.S. Virgin Islands, American Samoa, and the Commonwealth of the Northern Mariana Islands.

Any state agency or instrumentality may apply for funding under the various grant opportunities except the Technical Assistance for Consumer Task Forces and the Family-to-Family Health Care Information and Education Centers grants. If an application is from an applicant that is not the Single State Medicaid Agency, a letter of endorsement from the Governor, State Medicaid Director, or Agency administering a relevant section of the 1915(c) home and community-based waiver must accompany the application; this requirement does not apply to applicants for the National State-to-State Technical Assistance Program for Community Living or the Technical Assistance for Consumer Task Forces grants.

In the 2001 solicitation, any entity was able to apply for the C-PASS grants, which are to be awarded at the rate of one per State. There are still a number of states that have not received C-PASS grants. Based upon this year's allocation of funding, and consistent with the intent of the original 2001 solicitation, CMS will to retain the rate of one C-PASS grant award per state. This decision will enable more states to participate in this important program. Thus, the following states that received a C-PASS grant in FY 2001 or FY 2002 are ineligible to apply for FY 2003 C-PASS funding:

• FY 2001 C-PASS grantees: Alaska, Arkansas, Guam, Michigan, Minnesota, Montana, Nevada, New Hampshire, Oklahoma, and Rhode Island; and

• FY 2002 C-PASS grantees: Colorado, District of Columbia, Hawaii, Indiana, Kansas, North Carolina, Tennessee, and West Virginia.

For additional information on the FY 2001 and FY 2002 C-PASS grantees, please visit our contractor's Web site at: http://www.hcbs.org.

Any entity may apply for the Technical Assistance for Community Living Grant.

Any nonprofit organization as defined in HHS GPD 1.02 B as “[a] corporation or association whose profits may not lawfully accrue to the benefit of any private shareholder or individual” may apply for the Family-to-Family Health Care Information and Education Center grant. Nonprofits whose mission includes services to families with children with special health care needs and whose Board of Directors has a majority of parents of children with special health care needs are especially encouraged to apply. Only one application per state will be accepted for this type of grant. Applicants for this type of grant must also have a letter of endorsement from the State Medicaid Director or the Governor. In addition, states that currently operate Family-to-Family Family Health Care Information and Education Centers (funded through the Health Resources and Services Administration) are ineligible for funding under this initiative.

Only consortia of consumer-controlled organizations may apply for the Technical Assistance for Consumer Task Forces Grant. “Consumer-controlled organization” means an organization that is governed by individuals who have a disability or long-term illness. Individuals of any age who rely upon long-term supports and services as a result of a disability or long-term illness must represent more than half of such organization's Board of Directors or other controlling structure.

Consortia that apply for this technical assistance grant must represent individuals who have disability or long-term illness (e.g., people with a developmental disability, mental retardation, mental illness, physical disabilities) and those who are elderly. Since one organization may not possess the required expertise for all target groups, we expect the consortia to address the need for commitment from a significant number of highly knowledgeable individuals and organizations. It is not necessary for the consortia to have existed prior to this project. It can be an entity that has organized for purposes of applying for this grant, although one organization must have the capacity to receive the grant award and serve as the project lead.

States may and are encouraged to apply for more than one of the several different types of grant. For example, a state may apply for a Respite for Children and also for a Money Follows the Person Rebalancing Initiative grant. Also, different state agencies may apply for different grant opportunities. For example, the Single State Medicaid agency might apply for the C-PASS grant and the agency administering the section 1915(c) waiver might apply for the Money Follows the Person Rebalancing Initiative Grant. However, no state may be awarded more than one grant per state per type of grant opportunity. For example, a state may not receive two C-PASS grants, two Respite for Children grants, or two Independence Plus Initiative grants. In addition, if an applicant submits the same scope of work or similar activities under more than one of this year's grant opportunities, or activities are currently funded under existing grants, CMS will not consider the application for funding. CMS also reserves the right not to fund an application that, in its estimation, duplicates existing efforts regardless of the applicant's ranking by reviewers.

Faith-based organizations are encouraged to apply for the National State-to-State Technical Program for Community Living, Technical Assistance for Consumer Task Forces, and the Family-to-Family Health Care Information and Education Centers Grants.

CMS will not fund through this round of grants those efforts or activities that are already being funded under an existing Real Choice Systems Change Grant (funded in FY 2001 or FY 2002) or other grants. If a grantee proposes to significantly expand an earlier-funded project, the applicant must specifically describe this expansion in its application. CMS does encourage states to seek private sector grant opportunities (e.g., grants from foundations) to augment or coordinate with the Real Choice Systems Change Grants for Community Living.

In the event that CMS receives more than one application for any grant opportunity for which the “one per state” standard applies, CMS reserves the right to select which application to consider for funding.

CMS reserves the right to assure reasonable balance in the awarding of grants in terms of key factors such as geographic distribution and broad target group representation. CMS also reserves the right to redistribute grant funds based upon the number and quality of applications per type of grant (e.g., to adjust the minimum or maximum awards permitted or adjust the aggregate amount of federal funds allotted to a particular category of grants).

4. Match Requirements: Grantees are required to make a non-financial recipient contribution of five percent (5%) of the total grant award (including all direct and indirect costs). Non-financial recipient contributions may include the value of goods and/or services contributed by the Grantee (e.g., salary and fringe benefits of staff devoting a percentage of their time to the grant not otherwise included in the budget or derived from federal funds). Recipient contributions must be included in the applicant's budget in Item 15 (Estimated Funding) on Standard Form 424A and described in the budget narrative/justification section of the application. The non-financial match requirement may also be satisfied if a third party participating in the grant makes an “in-kind contribution,” provided that the Grantee's contribution and/or the third-party in-kind contribution equals 5% of the total grant award (including all direct and indirect costs). Third-party “in-kind contributions” may include the value of the time spent by consumer task force members (using appropriate cost allocation methods to the extent that non-Federal funds are involved) who specifically contribute to the design, development and implementation of the grant.

Intergovernmental Review of Federal Programs—”Intergovernmental Review of Federal Programs,” Executive Order 12372 (45 CFR Part 100), does not apply to this solicitation.

Authority: The Real Choice Systems Change Grants for Community Living are authorized pursuant to § 1110 of the Social Security Act. Section 1110 (a)(1)(A) of the Social Security Act authorizes CMS make “grants to States and public and other organizations and agencies for paying part of the cost of research or demonstration projects such as those * * * which will help improve the administration and effectiveness of programs carried on or assisted under the Social Security Act and programs related thereto * * *” CMS has structured its efforts under § 1110 into eight themes. The Real Choice Systems Change Grants are part of CMS's Research and Demonstration efforts under Theme 5: Strengthening Medicaid, State Children's Health Insurance Program (SCHIP), and State Programs. This effort includes research on ways to improve access to and delivery of health care to the persons served by Medicaid. These particular grants also support the President's New Freedom Initiative, which calls for the removal of barriers to community living for people with disabilities. Funding and Congressional language was provided in the Consolidated Appropriations Resolution, 2003 (Pub. L.108-7). Although Congress appropriated $40 million in funding for a new round of Real Choice Systems Change Grants for Community Living for FY 2003, Congress also passed a 0.65% general reduction in the 2003 appropriation that was distributed across federal programs, including this appropriation, so the final amount available is slightly less than $40 million.

Centers for Medicare & Medicaid Services, Office of Strategic Operations and Regulatory Affairs, Division of Regulations Development and Issuances, Attn: Reports Clearance Officer, 7500 Security Boulevard, Mail Stop: C5-16-03, Baltimore, MD 21244-1850. Fax Number: (410) 786-3064. Attn: Julie Brown;

and,

Office of Information and Regulatory Affairs, Office of Management and Budget, Room 10235, New Executive Office Building, Washington, DC 20503. Fax Number: (202) 395-6974 or (202) 395-5167. Attn: Brenda Aguilar, CMS Desk Officer.

Dated: May 27, 2003.
Dawn Willinghan,
Acting CMS Reports Clearance Officer, Office of Strategic Operations and Strategic Affairs, Division of Regulations Development and Issuances.

Real Choice Systems Change Grants for Community Living—FY 2003
Grant opportunity | Application deadline | Who may apply? ¹ | Max. number of grant awards per State per type of grant | Maximum award | Anticipated average award | Maximum projected period | Percent allowable for direct services ² | Estimated number of awards
Feasibility Studies and Development Grants
1. Respite for Adults (CFDA 93.779) | July 29, 2003. | Any State Agency or Instrumentality | 1 | $100,000 | $75,000 | Up to 36 mos | 0 | 7-14
2. Respite for Children (CFDA 93.779) | July 29, 2003. | Any State Agency or Instrumentality | 1 | 100,000 | 75,000 | Up to 36 mos | 0 | 7-14
3. Community-Based Treatment Alternatives for Children (CFDA 93.779) | July 29, 2003. | Any State Agency or Instrumentality | 1 | 100,000 | 75,000 | Up to 36 mos | 0 | 7-14
Research and Demonstration Grants
4. Quality Assurance and Quality Improvement in Home and Community-Based Services (CFDA 93.779) | July 29, 2003. | Any State Agency or Instrumentality | 1 | 500,000 | 360,000 | Up to 36 mos | 10 | 12-30
5. Independence Plus Initiative (CFDA 93.779) | July 29, 2003. | Any State Agency or Instrumentality | 1 | 500,000 | 360,000 | Up to 36 mos | 20 | 8-16
6. Money Follows the Person Rebalancing Initiative (CFDA 93.779) | July 29, 2003. | Any State Agency or Instrumentality | 1 | 750,000 | 550,000 | Up to 36 mos | 10 | 10-20
7. Community-IntegratedPersonal Assistance Services and Supports (CFDA 93.779) | July 29, 2003. | Any State Agency or instrumentality | ³ 1 | 600,000 | 400,000 | 36 mos | 20 | 4-10
Technical Assistance to States, State Advisory Committees and Families
8. National State-to-State Technical Assistance Program for Community Living (CFDA 93.779) | July 29, 2003. | Any Entity | N/A | 4,400,000 | 4,400,000 | 36 mos | 0 | 1
9. Technical Assistance for Consumer Task Forces (CFDA 93.779) | July 29, 2003. | Any consortium of consumer-controlled organizations for people with disabilities ⁴ | N/A | 550,000 | 550,000 | 36 mos | 0 | 1
10. Family-to-Family Health Care Information and Education Centers (CFDA 93.779) | July 29, 2003. | Any Nonprofit Organization ⁵ | 1 | 150,000 | 145,000 | 36 mos | 0 | 6-10
¹ The Single State Medicaid Agency or any other agency or instrumentality of a state (as determined under state law) may apply for any grant opportunity except the Technical Assistance for Consumer Task Forces Grant. By “State” we refer to the definition provided under 45 CFR 74.2 as “any of the several States of the United States, the District of Columbia, the Commonwealth of Puerto Rico, any territory or possession of the United States, or any agency or instrumentality of a State exclusive of local governments.” “Territory or possession” is defined as Guam, the United States Virgin Islands, American Samoa, and the Commonwealth of the Northern Mariana Islands. If an application is from an applicant that is not the Single State Medicaid Agency, a letter of endorsement from the Governor, State Medicaid Director, or Agency administering a relevant section of the 1915(c) home and community-based waiver must accompany the application; this requirement does not apply to applicants for the National State-to-State Technical Assistance Program for Community Living, the Technical Assistance for Consumer Task Forces Grants, or the Family-to-Family Health Care Information and Education Centers Grants.
² Direct Services do not include expenses budgeted for consumer task force member participation in Real Choice Systems Change for Community Living Conferences or technical assistance conferences sponsored by CMS or its national technical assistance providers for purposes of Real Choice Systems Change Grants for Community Living.
³ For the Community-Integrated Personal Assistance Services and Supports Grants (C-PASS), states that received a C-PASS grant in FY 2001 or FY 2002 are ineligible to apply for FY 2003 C-PASS funding. FY 2001 C-PASS Grantees are: Alaska, Arkansas, Guam, Michigan, Minnesota, Montana, Nevada, New Hampshire, Oklahoma, and Rhode Island. FY 2002 C-PASS Grantees are: Colorado, District of Columbia, Hawaii, Indiana, Kansas, North Carolina, Tennessee, and West Virginia. Only states that did not receive a C-PASS grant in either FY 2001 or FY 2002 are eligible to apply.
⁴ Consumer-controlled organization means an organization that is governed by individuals who have a disability or long-term illness. Individuals of any age, who rely upon long-term supports and services as a result of a disability or long-term illness, must represent more than half of such organization's Board of Directors or other controlling structure.
⁵ Applicants for this type of grant must also have a letter of endorsement from the State Medicaid Director or the Governor or. In addition, states that currently operate Family-to-Family Family Health Care Information and Education Centers (funded through the Health Resources and Services Administration) are ineligible for funding under this initiative. Information and Education Centers application.

[FR Doc. 03-13582 Filed 5-27-03; 3:27 pm]

BILLING CODE 4120-03-P